DEPARTMENT OF HEALTH AND HUMAN SERVICES

Administration for Children and Families

[OMB #0970-0106]

Proposed Information Collection Activity; Low Income Home Energy Assistance Program Carryover and Reallotment Report

AGENCY: Office of Community Services, Administration for Children and Families, U.S. Department of Health and Human Services.

ACTION: Request for public comments.

SUMMARY: The Administration for Children and Families (ACF) is requesting from Office of Management and Budget (OMB) a reinstatement of approval with changes to the Low Income Home Energy Assistance Program (LIHEAP) Carryover and Reallotment Report (OMB #0970-0106, discontinued June 2025). Minor changes are proposed to break out awards into three sources and incorporate numbering and wording updates.

DATES: Comments due August 12, 2025. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION:

Description: The LIHEAP statute and regulations require LIHEAP grant recipients to report certain information to the U.S. Department of Health and Human Services (HHS) concerning funds forwarded and funds subject to reallotment. The 1994 reauthorization of the LIHEAP statute, the Human Service Amendments of 1994 (Pub. L. 103-252), requires that the Carryover and Reallotment Report for one fiscal year (FY) be submitted to HHS by the grant recipient before the allotment for the next FY may be awarded.

In compliance with PRA, ACF discontinued the OMB number in June 2025, prior to the expiration date, to allow for public comment on the extension and revision request prior to OMB review.

ACF is requesting minor changes in the program's Carryover and Reallotment Report, a form for the collection of data, and the Instructions for Timely Obligation of LIHEAP Regular Block Grant, Reallotted, and Supplemental Funds and Reporting Funds for Carryover and Reallotment. The form clarifies the information being requested and ensures the submission of all the required information. The form facilitates our response to numerous queries each year concerning the amounts of obligated funds. Use of the form is mandatory for prior-year grant recipients that seek current-year LIHEAP funds except for (1) territorial grant recipients that consolidate their LIHEAP programs with the Social Services Block Grant under Public Law 95-134; and (2) tribal grant recipients that have integrated their LIHEAP programs under Public Law 102-477 for administration through the Bureau of Indian Affairs and that draw down funds solely during the integration period.

Respondents: State governments, tribal governments, territories, and the District of Columbia.

Annual Burden Estimates
Instrument | Total number of respondents | Annual number of responses per respondent | Average burden hours per response | Annual burden hours
LIHEAP Carryover and Reallotment Report | 188 | 1 | 3 | 564

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8626(b)(2)(B)

Mary C. Jones,
ACF/OPRE Certifying Officer.

[FR Doc. 2025-10844 Filed 6-12-25; 8:45 am]

BILLING CODE 4184-80-P